DEPARTMENT OF COMMERCE

National Oceanic and Atmospheric Administration

RIN 0648-XQ003

Special Meeting of the Advisory Committee to the United States Delegation to the International Commission for the Conservation of Atlantic Tunas

AGENCY: National Marine Fisheries Service (NMFS), National Oceanic and Atmospheric Administration (NOAA), Commerce.

ACTION: Notice of Advisory Committee meeting and webinar/conference call.

SUMMARY: The Advisory Committee (Committee) to the U.S. Section to the International Commission for the Conservation of Atlantic Tunas (ICCAT) announces a special meeting to be held September 5-6, 2019. The meeting is open to the public and will be accessible via conference call and webinar.

DATES: The meeting and webinar will take place in open session on September 5, 2019, 1:30 p.m. to 5:30 p.m. and September 6, 2019, 9 a.m. to 12 p.m.

ADDRESSES: The meeting will be held at the Sheraton Silver Spring Hotel, 8777 Georgia Ave., Silver Spring, Maryland 20910.

The meeting will also be accessible via conference call and webinar. Conference call and webinar access information are available at: https://www.fisheries.noaa.gov/event/special-meeting-us-iccat-advisory-committee. The meeting agenda and materials will be posted to the same site.

Participants are strongly encouraged to log/dial in 15 minutes prior to the meeting. NMFS will show the presentations via webinar and audio will be available via phone. There will not be opportunity for public comment.

FOR FURTHER INFORMATION CONTACT: Terra Lederhouse at (301) 427-8360.

SUPPLEMENTARY INFORMATION: The Advisory Committee to the U.S. Section to ICCAT will meet in open session to receive and discuss information on recent white marlin and yellowfin tuna assessments, updates on the shortfin mako stock assessment, and ICCAT's progress on the Atlantic bluefin tuna management strategy evaluation. Additional information on the meeting and the agenda will be posted prior to the meeting at https://www.fisheries.noaa.gov/event/special-meeting-us-iccat-advisory-committee.

Special Accommodations

The meeting location is physically accessible to people with disabilities. Requests for sign language interpretation or other auxiliary aids should be directed to Terra Lederhouse at (301) 427-8360 at least 5 days prior to the meeting date.

Authority: 16 U.S.C. 971 et seq.; 16 U.S.C. 1801 et seq.

Dated: August 22, 2019.
Alexa Cole,
Acting Director, Office of International Affairs and Seafood Inspection, National Marine Fisheries Service.

[FR Doc. 2019-18760 Filed 8-29-19; 8:45 am]

BILLING CODE 3510-22-P